INTERNATIONAL BOUNDARY AND WATER COMMISSION

United States and Mexico; United States Section Notice of Availability of a Final Environmental Assessment and Finding of No Significant Impact for Allowing Avian Hunting in Designated Areas Along the Rio Grande Canalization Project, Sierra and Doña Ana Counties, New Mexico

AGENCY: United States Section, International Boundary and Water Commission, United States and Mexico.

ACTION: Notice of Availability of the Final Environmental Assessment (EA) and Finding of No Significant Impact (FONSI).

SUMMARY: Pursuant to Section 102(2)(c) of the National Environmental Policy Act of 1969; the Council on Environmental Quality Final Regulations (40 CFR parts 1500 through 1508); and the United States Section, Operational Procedures for Implementing Section 102 of NEPA, published in the Federal Register September 2, 1981, (46 FR 44083); the United States Section hereby gives notice that the Final Environmental Assessment for Allowing Avian Hunting in Designated Areas Along the Rio Grande Canalization Project, Sierra and Doña Ana Counties, New Mexico is available.

A notice of the draft EA was published in the Federal Register on July 25, 2013 (Federal Register Notice, Vol. 78, No. 143, Page 44969) and provided a thirty (30) day comment period. This EA analyzed the potential impacts of allowing migratory and game bird hunting within designated areas on USIBWC property in Doña Ana County, New Mexico, along the New Mexico portion of the Rio Grande Canalization Project, which extends from Percha Dam near Arrey, New Mexico downstream to American Dam in El Paso, Texas. The designated hunting areas were modified in the Final EA in response to public comments. An environmental impact statement will not be prepared.

FOR FURTHER INFORMATION CONTACT: Elizabeth Verdecchia, Natural Resources Specialist, Environmental Management Division; United States Section, International Boundary and Water Commission; 4171 N. Mesa, C-100; El Paso, Texas 79902. Telephone: (915) 832-4701, email: Elizabeth.Verdecchia@ibwc.gov. Background: Availability: The electronic version of the Final EA and FONSI is available from the USIBWC Web page: http://www.ibwc.gov/EMD/EIS_EA_Public_Comment.html.

Dated: July 25, 2014.
Matthew Myers,
General Counsel.

[FR Doc. 2014-18177 Filed 7-31-14; 8:45 am]

BILLING CODE 7010-01-P